DEPARTMENT OF COMMERCE

International Trade Administration

(A-570-891)

Notice of Partial Rescission, Intent To Rescind and Extension of Preliminary Results of Antidumping Duty Administrative Review: Hand Trucks and Certain Parts Thereof From the People's Republic of China

AGENCY: Import Administration, International Trade Administration, Department of Commerce

SUMMARY: In response to requests from Gleason Industrial Products, Inc., and Precision Products, Inc. (collectively, petitioners), the U.S. Department of Commerce (the Department) initiated an administrative review of the antidumping duty order on hand trucks and certain parts thereof from the People's Republic of China for the companies listed below for the period December 1, 2007, through November 30, 2008. No other interested party requested a review for this period of review. For the reasons discussed below, the Department is partially rescinding this administrative review with respect to two companies and intends to rescind the review with respect to a third company.

EFFECTIVE DATES: June 19, 2009.

FOR FURTHER INFORMATION CONTACT: David Cordell or Robert James, AD/CVD Operations, Office 7, Import Administration, International Trade Administration, U.S. Department of Commerce, 14th Street and Constitution Avenue NW, Washington, DC 20230; telephone: (202) 482-0408 or (202) 482-0649 respectively.

SUPPLEMENTARY INFORMATION:

Background

On December 1, 2008, the Department published in the Federal Register its notice of opportunity to request an administrative review of the antidumping duty order on hand trucks and certain parts thereof from the People's Republic of China. See Antidumping or Countervailing Duty Order, Finding, or Suspended Investigation; Opportunity to Request Administrative Review, 73 FR 72764 (December 1, 2008). On December 30, 2008, in accordance with 19 CFR 351.213(b)(1), petitioners requested that the Department conduct an administrative review for the following exporters of the subject merchandise: Qingdao Huatian Hand Truck Co., Ltd. (Huatian); True Potential Co., Ltd. (True Potential); Since Hardware (Guangzhou) Co., Ltd. (Since Hardware); and New-Tec Integration (Xiamen) Co., Ltd. (New-Tec).

On February 2, 2009, the Department published in the Federal Register a notice of the initiation of the antidumping duty administrative review of hand trucks from the PRC for the period December 1, 2007, through November 30, 2008, with respect to the four companies named above. See Initiation of Antidumping and Countervailing Duty Administrative Reviews and Request for Revocation in Part, 74 FR 5821 (February 2, 2009) (Initiation Notice).

On February 19, 2009, the Department issued a memorandum indicating its intention to select mandatory respondents based upon U.S. Customs and Border Protection data for U.S. imports of hand trucks from the PRC during the POR. On February 13, 2009 petitioners provided comments to the Department in which they requested that the Department select Huatian and True Potential as mandatory respondents. On March 4, 2009, Huatian and True Potential both provided the Department with separate rate certifications, thereby meeting the 30-day deadline for submission of such certifications as detailed in the Initiation Notice. On March 16, 2009, the Department determined that it was not practicable to examine individually all of the companies covered by the 2007-2008 administrative review. The Department stated it was limiting its examination to the largest producers/exporters that could reasonably be reviewed, pursuant to section 777A(c)(2)(B) of the Tariff Act of 1930, as amended (the Tariff Act). The Department selected Huatian and True Potential as the two respondents required to submit a full questionnaire response in the administrative review. See memorandum titled “Respondent Selection Memorandum: Antidumping Duty Administrative Review of Hand Trucks and Parts Thereof from the People's Republic of China” dated March 16, 2009.

Huatian and True Potential filed their section A responses on April 13, 2009 and their section C and D responses on April 28, 2009. On May 1, 2009, pursuant to 19 CFR 351.213(d)(1), petitioners withdrew their requests for review of Huatian and True Potential but did not withdraw the request with respect to Since Hardware and New-Tec

On March 4, 2009, New-Tec provided certification that New-Tec did not ship to the United States any subject merchandise during the POR and requested the Department rescind the review with respect to New-Tec. On April 21, 2009, the Department's no shipments inquiry with respect to New-Tec was posted by CBP. See message number 9120201 dated April 21, 2009. The Department has received no information from that inquiry, and has found no evidence of shipments of subject merchandise to the United States by New-Tec of subject merchandise during the POR.

Rescission of Review

Section 351.213(d)(1) of the Department's regulations provide that the Department will rescind an administrative review if the party that requested the review withdraws its request for review within 90 days of the date of publication of the notice of initiation of the requested review, or withdraws at a later date if the Department determines that it is reasonable to extend the time limit for withdrawing the request. The Department initiated the administrative review of the antidumping duty order on February 2, 2009. Petitioners withdrew their request for review of Huatian and True Potential on May 1, 2009. As the party that requested this review has timely withdrawn the requests for review, this review is rescinded with respect to Huatian and True Potential.

Intent To Rescind Review in Part

On March 4, 2009, New-Tec submitted a certification of no shipments of subject merchandise to the United States. We have not received comments on New-Tec's submission. We made inquires with CBP as to whether any shipments were entered with respect to New-Tec during the POR. See message number 9120201 dated April 21, 2009. We received no response to that inquiry. We examined CBP information used in the selection of the mandatory respondents to further confirm no shipments by New-Tec during the POR. See “Letter from Robert James to All Interested Parties” dated February 9, 2009, containing CBP data on all entries of hand trucks and certain parts thereof during the POR. Based on the above, we preliminarily find that New-Tec had no shipments of subject merchandise during the POR, and we intend to rescind the review with respect to New-Tec pursuant to 19 CFR 351.213(d)(3).

Interested parties may submit comments on the Department's intent to rescind with respect to New-Tec no later than 30 days after the date of publication of this preliminary notice. The Department will issue the final notice, which will include the results of its analysis of issues raised in any such comments, in the preliminary results of the review.

Since Hardware

Because the Department is rescinding the review with respect to Huatian and True-Potential, and because the Department intends to rescind the review with respect to New-Tec, the Department has decided to make Since Hardware the mandatory respondent in this review. Since Hardware was issued a complete questionnaire to respond to on May 5, 2009. On May 26, 2009, Since Hardware entered its notice of appearance in this segment of the proceeding. The Department will issue appropriate assessment instructions regarding the rescinded companies directly to U.S. Bureau of Customs and Border Protection.

Extension of Preliminary Results

The Department has determined that it is not practicable to complete the preliminary results by the current 245-day deadline of September 2, 2009. The Department selected Since Hardware as a mandatory respondent on May 5, 2009, four days after petitioners withdrew their request for a review of the two previously-selected mandatory respondents Huatian and True Potential. See Memorandum to the File, “Re: Selection of New Mandatory Respondent,” dated May 5, 2009. Because May 5, 2009 was more than three months subsequent to the initiation of this review, we will need additional time to analyze Since Hardware's response and complete the antidumping calculation. Therefore, in accordance with section 751(a)(3)(A) of the Act, and 19 CFR 351.213(h)(2), the Department is extending the time limit for the preliminary results by 120 days to December 31, 2009.

Notification to Importers

This notice serves as a reminder to importers of their responsibility under section 351.402(f) of the Department's regulations to file a certificate regarding the reimbursement of antidumping duties prior to liquidation of the relevant entries during this review period. Failure to comply with this requirement could result in the Secretary's assumption that reimbursement of antidumping duties occurred and subsequent assessment of double antidumping duties.

Notification Regarding APOs

This notice also serves as a reminder to parties subject to administrative protective order (APO) of their responsibility concerning the disposition of proprietary information disclosed under APO in accordance with section 351.305(a)(3) of the Department's regulations. Timely written notification of the return/destruction of APO materials or conversion to judicial protective order is hereby requested. Failure to comply with the regulations and the terms of an APO is a sanctionable violation.

This notice is issued and published in accordance with section 777(i)(1) of the Tariff Act, and 19 CFR 351.213(d)(4) of the Department's regulations.

Dated: June 12, 2009.
John M. Andersen,
Acting Deputy Assistant Secretary for Antidumping and Countervailing Duty Operations.

[FR Doc. E9-14472 Filed 6-18-09; 8:45 am]

BILLING CODE 3510-DS-S